DEPARTMENT OF COMMERCE

National Oceanic and Atmospheric Administration

[RTID 0648-XR096]

Endangered and Threatened Species; Take of Anadromous Fish

AGENCY: National Marine Fisheries Service (NMFS), National Oceanic and Atmospheric Administration (NOAA), Commerce.

ACTION: Notice of receipt and request for public comment on ten permit renewal applications, one permit modification, and five new permits.

SUMMARY: Notice is hereby given that NMFS has received sixteen scientific research permit application requests relating to Pacific salmon and steelhead, rockfish, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on March 2, 2020.

ADDRESSES: Written comments on the applications should be sent to the Protected Resources Division, NMFS, 1201 NE Lloyd Blvd., Suite 1100, Portland, OR 97232-1274. Comments may also be sent via fax to 503-230-5441 or by email to nmfs.wcr-apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Threatened Lower Columbia River (LCR); threatened Puget Sound (PS); threatened Snake River (SnkR) spring/summer-run; threatened Snake River (SnkR) fall-run; endangered Upper Columbia River (UCR) spring-run; threatened Upper Willamette River (UWR).

Steelhead (O. mykiss): Threatened Middle Columbia River (MCR); threatened PS; threatened SnkR; threatened UCR; threatened Central California Coast (CCC); threatened California Central Valley (CCV).

Chum salmon (O. keta): Threatened Hood Canal Summer-run (HCS).

Coho salmon (O. kisutch): Threatened LCR; threatened Oregon Coast (OC) coho; threatened Southern Oregon/Northern California Coast (SONCC).

Sockeye salmon (O. nerka): Endangered SnkR.

Eulachon (Thaleichthys pacificus): Threatened southern (S).

Rockfish (Sebastes spp.): Endangered Puget Sound/Georgia Basin (PS/GB) bocaccio (Sebastes paucispinis); threatened PS/GB yelloweye rockfish (S. ruberrimus).

Authority

Scientific research permits are issued in accordance with section 10(a)(1)(A) of the ESA (16 U.S.C. 1531 et seq.) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

1339-5M

The Nez Perce Tribe (NPT) under the authorization of the Columbia River Intertribal Fish Commission (CRITFC) is seeking to modify a permit that allows them to annually take adult and juvenile SnkR spring/summer Chinook salmon and SnkR steelhead while conducting research in a number of the tributaries to the Imnaha River (Cow, Lightning, Horse, Big Sheep, Camp, Little Sheep, Freezeout, Grouse, Crazyman, Mahogany, and Gumboot Creeks), the Grande Ronde River (Joseph Creek, Wenaha and Minam rivers), the Clearwater River (South Fork Clearwater River and Lolo Creek), and the Snake River (Lower Granite Dam adult trap). The Imnaha and Grande Ronde Rivers are in northeastern Oregon, the Clearwater is in Idaho, and the work in the Snake River would take place in Washington. The NPT has been conducting this work for more than two decades in the Pacific Northwest. The NPT is seeking to modify the permit in one way: They would like to be able to capture a number of adult steelhead at temporary weirs in the Salmon River subbasin in Idaho—primarily at a small number of locations in the lower Salmon River below the town of Riggins. The purpose of the research is to acquire information on the status (escapement abundance, genetic structure, life history traits) of juvenile and adult steelhead in the Imnaha, Grande Ronde, Clearwater, and Salmon River subbasins. The research would benefit the listed species by providing information on current status that fishery managers can use to determine if recovery actions are helping increase Snake River salmonid populations. Baseline information on steelhead populations in the Imnaha, Grande Ronde, and Clearwater River subbasins would also be used to help guide future management actions. Adult and juvenile salmon and steelhead would be observed, handled, and marked. The researchers would use temporary/portable picket and resistance board weirs and rotary screw traps to capture the fish and would then sample some of them for biological information (fin tissue and scale samples). They may also mark some of the fish with opercule punches, fin clips, dyes, and PIT, floy, and/or Tyvek disk tags. Adult steelhead carcasses would also be collected and sampled. The researchers do not intend to kill any of the fish being captured, but a small number may die as an unintended result of the activities.

14772-4R

The Oregon Department of Fish and Wildlife (ODFW) is seeking to renew a permit that currently allows it to take juvenile and adult OC coho salmon while studying fish abundance, distribution, and habitat preference in the Umpqua River. The ODFW would also study the distribution of non-native invasive species, interspecific competition, and predator-prey interactions. The information would benefit OC coho by helping to improve management plans. The researchers would use backpack and boat electrofishing equipment to capture the fish. Stunned fish would be recovered in a soft mesh dipnet and immediately put in an aerated holding tank. The fish would then be measured, weighed, recorded by species, and swiftly returned to the water. The researchers would avoid adult coho, but a few may be encountered. In the event that an adult coho is encountered, the ODFW would shut off the electrical current and allow the fish to swim away, and no more electrofishing would occur in that location. The researchers do not intend to kill any of the fish being captured, but a small number of juvenile coho may die as an unintended result of the activities.

15205-4R

The KWIAHT Center for the Historical Ecology of the Salish Sea (KWIAHT) is seeking to renew for five years a research permit that currently allows them to take juvenile PS Chinook salmon. Sampling sites would occur offshore of Decatur, Lopez, and Waldron island beaches in the San Juan Island archipelago in Puget Sound (San Juan County, WA). The purpose of this research is to understand long-term changes in the food web that supports Salish Sea salmon populations that annually congregate in the San Juan Islands basin. Since 2010, this study has been analyzing trends in juvenile Chinook salmon, their prey species (sand lance and Pacific herring), and their changing environment (i.e., water temperatures). This research would benefit PS Chinook salmon by continuing to keep managers informed of the changes in the salmonids' environment and the impact those changes are having on juvenile wild Chinook salmon during their neritic life history stage. The researchers propose capturing fish using a beach seine. Once captured, the fish would be anesthetized and measured, and a tissue sample would be taken (sample scale and fin clip). The fishes' stomach contents would then be sampled by gastric lavage. The fish would then be returned to an aerated holding bucket until they are ready for release. The researchers do not propose to kill any of the listed salmonids being captured, but a small number may die as an unintended result of the activities.

15230-3R

West Fork Environmental, Inc. (WFE) is seeking to renew for five years a research permit that currently allows them to take juvenile PS Chinook salmon and PS steelhead on the South Fork of the Tolt River (Snoqualmie River sub-basin; King County, WA). The purpose of the study is to better understand the seasonal use of the Tolt River and its tributaries by juvenile PS steelhead prior to their outmigration. Since 2010, this study has increased our knowledge of size- and age-based movements in the upper reaches of the South Fork Tolt River. Further research would benefit PS steelhead by including an additional PIT-tag array to provide a better understanding of population-specific age structure, genetic structure, and movement patterns for both juveniles and returning adults. The WFE researchers propose capturing fish using backpack electrofishing and hook and line angling. The listed steelhead would be captured, anesthetized, measured, weighed, have a tissue sample taken (sample scale and fin clip), PIT tagged, and returned to an aerated holding bucket until they are ready for release. All other fish would be captured, identified to species, and released. The researchers do not propose to kill any of the listed salmonids being captured, but a small number may die as an unintended result of the activities.

17062-6R

The Northwest Fisheries Science Center (NWFSC) is seeking to renew for five years a research permit that currently allows them to take juvenile and adult PS Chinook salmon, PS steelhead, HCS chum salmon, and PS/GB bocaccio. The NWFSC research may also cause them to take adult S eulachon and juvenile and adult PS/GB yelloweye rockfish, for which there are currently no ESA take prohibitions. Sampling would take place throughout the Puget Sound, the Strait of Juan de Fuca, and Hood Canal, WA. The purposes of the study are to (1) determine how much genetic variation exists between coastal and PS/GB DPS bocaccio populations; (2) investigate how characteristics (patch size and level of nearby urbanization) of rocky reef habitats, kelp forests, and eelgrass beds affect the relative quality of these habitats as nursery habitat for rockfishes in Puget Sound; and (3) examine the trophic relationships of rockfish in Puget Sound and their reliance on productivity from rocky reef habitats, kelp forests, and eelgrass beds. Since 2012, this study has been collecting genetic samples from ESA-listed rockfish to determine whether or not the PS/GB DPS rockfish designations are supported. For yelloweye and canary rockfish, enough genetic information was collected to support the PS/GB DPS designation for yelloweye rockfish but suggested that canary rockfish in Puget Sound were not a unique DPS. For bocaccio, not enough individuals were captured to support a determination. Further research would benefit these ESA-listed rockfish by collecting more biological samples to better understand DPS/species uniqueness and their habitat (i.e., rocky reef, kelp forests, and eelgrass beds) interactions. The NWFSC proposes to capture fish by using (1) hook and line equipment at depths of 20-200 meters; (2) hand nets and spear guns while conducting SCUBA diving transects; and (3) anchored minnow traps and Standard Monitoring Units for the recruitment of Reef Fishes (SMURFs). For the hook and line fishing, captured fish would be reeled slowly to the surface to reduce the impacts of barotrauma. All captured ESA-listed rockfish would be measured, weighed, sexed, tissue sampled (caudal fin clip and dorsal musculature), floy tagged, and released to the water via rapid submersion techniques to reduce barotrauma. If a rockfish individual is captured dead or deemed nonviable, it would be retained for genetic analysis. All other ESA-listed fish would be released after capture. For the SCUBA diving transects, juvenile rockfish would be collected in a plastic bag and brought to the surface and sacrificed for full body analysis. For minnow traps and SMURFs, the traps would be brought to the surface, emptied into a tub of water, and the fish would be identified to species, enumerated, and sacrificed for full body analysis. The researchers do not propose to kill any adult listed fish being captured, but a small number may die as an unintended result of the activities.

17761-2R

The East Bay Municipal Utility District (EBMUD), Fisheries and Wildlife Division is seeking to renew for a five years a permit that currently allows them to take juvenile and adult CCV steelhead in the lower Mokelumne River in the San Joaquin Valley, CA. Fish would be observed (video monitoring in the fish ladder, escapement surveys, snorkel surveys, and redd surveys), captured (boat and backpack electrofishing, rotary screw traps, fish ladder trap, fyke traps, beach seines, smolt bypass trap, hook and line, trawling), handled (anesthetize, weigh, measure, and check for marks or tags), and released. A subsample may be marked, tagged, and/or sampled for stomach content or biological tissue. The purpose of the research is to collect scientific data on anadromous fish, resident fish, and fish habitat on the lower Mokelumne River as part of an ongoing process to measure the success of the flow requirements and non-flow measures set forth in the 1998 Joint Settlement Agreement (JSA) between EBMUD, the U.S. Fish and Wildlife Service (USFWS), and the California Department of Fish and Game (CDFW) as part of the 1991 Federal Energy Regulatory Commission (FERC) license proceeding. Data will also be used to develop and implement Hatchery and Genetics Management Plans for operation of the Mokelumne River Fish Hatchery's fall run Chinook salmon program and Central Valley steelhead program. The researchers are not proposing to kill any of the fish they capture, but a small number of individuals may be killed as an inadvertent result of the activities.

18696-4R

The Idaho Power company is seeking to renew for five years a research permit that currently allows them to annually capture juvenile and adult SnkR fall-run and SnkR spring/summer run Chinook salmon, SnkR sockeye and SnkR steelhead. The researchers are targeting juvenile white sturgeon in Lower Granite Reservoir, Idaho. The researchers currently use small-mesh gill nets and d-ring nets to capture white sturgeon. They also employ a benthic (near-bottom) trawl in Lower Granite Reservoir and do some gill-netting upstream from that reservoir. The gill net fishing would continue to take place at times (October and November) and in areas (the bottom of the reservoir and river) that have purposefully been chosen to have the least possible impact on listed fish. When the nets are pulled to the surface, listed species would immediately be released (including by cutting the net, if necessary) and allowed to return to the reservoir. The d-ring fishing would take place in June and July, but the same restrictions (immediately releasing listed fish, etc.) would still apply. The purpose of the research is to document sturgeon survival in early life stages in the mainstem Snake River. The research targets a species that is not listed, but the research would benefit listed salmonids by generating information about the habitat conditions near and in Lower Granite Reservoir and by helping managers develop conservation plans for the species that inhabit those areas. The researchers are not proposing to kill any of the fish they capture, but a small number of individuals may be killed as an inadvertent result of the activities.

18852-2R

The USFWS Mid-Columbia River Fishery Resource Office is seeking to renew for five years a research permit that currently allows them to annually capture juvenile and adult UCR spring-run Chinook salmon and steelhead, and juvenile MCR steelhead. Sampling would take place throughout the Yakima, Wenatchee, Entiat, Methow and Okanogan river basins in WA. The researchers currently use backpack electrofishing, hand/dip nets, and hook and line to capture fish. The purpose of this project is to (1) determine the distribution and status of Pacific lamprey, bull trout, and other native fish species and (2) implement and assess recovery actions associated with passage at existing structures and at lamprey passage engineered structures. During this research, non-target species, including Chinook salmon and steelhead will be released with minimal handling. In some study areas, Chinook salmon and steelhead may be anesthetized and identified to species, measured, and scanned for PIT tags. The research targets Pacific lamprey and bull trout, but the research would benefit listed salmonids by providing presence/absence data and helping inform habitat restoration actions. The researchers are not proposing to kill any of the fish they capture, but a small number of individuals may be killed as an inadvertent result of the activities.

18906-2R

The Northwest Straits Foundation (NSF) is seeking to renew for five years a research permit that currently allows them to take juvenile PS Chinook salmon and PS steelhead. The researchers may also take adult S eulachon, for which there are currently no ESA take prohibitions. Sampling would take place at up to 30 sites in the eastern Puget Sound from Saratoga Passage (in the south) to Fidalgo Bay (to the north) (Island and Skagit counties, WA). The purpose of the study is to monitor ecosystem response to restoration efforts (pre- and post-) and determine their effectiveness at reestablishing habitat as a natural functioning ecosystem. The research would benefit the listed species by determining the effectiveness of these restoration efforts and applying them to future efforts which directly benefits listed salmon by increasing habitat. The NSF proposes capturing fish using a beach seine. Fish would be captured, identified to species, measured, and released. The researchers do not propose to kill any of the listed fish being captured, but a small number may die as an unintended result of the activities.

19013-2R

Long Live the Kings (LLTK) is seeking to renew for five years a research permit that currently allows them to take juvenile HCS chum salmon, PS Chinook salmon, and PS steelhead in the Hamma Hamma River (Mason County, WA). The purpose of the study is to assess the long-term effects and effectiveness of PS steelhead supplementation when utilizing low-impact, innovative wild steelhead supplementation techniques in streams throughout the Hood Canal region. Further research would benefit the listed species by determining what legacy effects the PS steelhead hatchery program have had on natural steelhead populations (abundance, genetic diversity, life history diversity). The researchers propose capturing fish using a rotary screw trap. PS steelhead would be captured, anesthetized, weighed, measured, have a tissue sample taken (sample scale and fin clip), and returned to an aerated holding bucket until they are ready for release. All other fish will be captured, identified to species, and released downstream of the trap. The researchers do not propose to kill any of the listed salmonids being captured, but a small number may die as an unintended result of the activities.

19386-2R

The Wood Environment & Infrastructure Solutions, Inc. (WEIS) is seeking to renew for five years a research permit that currently allows them to take juvenile PS Chinook salmon and PS steelhead in the Lower Duwamish River waterway (King County, WA). Under a Consent Decree settled through U.S. District Court (Western District of Washington), The Boeing Company agreed to construct two habitat restoration projects near Boeing Plant 2 in the Lower Duwamish Waterway to restore and create off-channel and riparian habitats in an area where they have been largely eliminated due to channelization and industrialization. The purpose of this study is to determine if fish, including ESA listed juvenile salmonids, are using the newly created/restored habitat. This is a planned ten-year study, and this renewal would cover the last five years of the study. This research would benefit the affected species by informing future restoration designs as well as providing data to support future enhancement projects. The researchers propose to capture fish using fyke nets during the spring salmonid outmigration (March through June). Fish would be anaesthetized, identified to species, measured for length, allowed to recover, and released. The researchers do not propose to kill any of the listed fish being captured, but a small number may die as an unintended result of the activities.

23567

Stillwater Sciences is seeking a five-year research permit to take juvenile CCC steelhead in Rector Creek extending 1.7 miles downstream from Rector Dam in Napa County, CA. Sampling would be for a period of 1 week during both the Spring (March-June) and again during Fall (September-October) in 2020, followed by repeat surveys in 2021-2024. The purpose of this study is to assess instream flow needs in Rector Creek. The license to operate Rector Dam does not include specific instream flow release requirements; however, California Fish and Game Code Section 5937 requires the owner or operator of any dam to allow sufficient flow to pass through or over the dam to keep fish downstream of the dam in good condition. Data will be collected to assess species composition, distribution, abundance, age-class distribution, and individual fish condition (size, growth rate, and presence of disease, parasites, or lesions) to evaluate the condition of fish in Rector Creek downstream of Rector Dam. Results of this study will be used to refine the conditions of the Rector Creek release schedule to improve habitat conditions for fish species downstream. Fish survey methods used will include direct observation using multi-pass snorkeling methods, beach seining, dip-netting, and single-pass backpack electrofishing. These methods will follow standard guidelines to reduce injury to steelhead and other native fish species. The researchers do not propose to kill any of the listed fish being captured, but a small number may die as an unintended result of the activities.

23600

The University of Washington (UW) is seeking a three-year research permit to annually take juvenile and adult PS Chinook salmon, PS steelhead, HCS chum salmon, and PS/GB bocaccio throughout the Puget Sound and the Strait of Juan de Fuca, WA. The UW research may also cause them to take adult PS/GB yelloweye rockfish, for which there are currently no ESA take prohibitions. The purpose of the study is to investigate the ecology and movement of broadnose sevengill shark (Notorhynchus cepedianus) and bluntnose sixgill shark (Hexanchus griseus) and to assess their potential to serve as sentinels for deep ocean ecosystems. This research would benefit the affected species by providing a better understanding of the marine ecosystem of Puget Sound and the Pacific Ocean. The UW proposes to capture fish using longline fishing gear. Targeted shark species would be tagged (satellite and acoustic), sampled (blood, fin clip, and muscle tissue biopsy), measured, and released. ESA-listed rockfish would be tissue sampled (fin clip), floy tagged, and released to the water via rapid submersion techniques to reduce barotrauma. If a rockfish individual is captured dead or deemed nonviable, it would be retained for genetic analysis. ESA-listed salmonids would either be immediately released or held an aerated livewell until they are ready for release. The researchers do not propose to kill any of the listed fish being captured, but a small number may die as an unintended result of the activities.

23633

The USFWS is seeking a five-year permit to capture juveniles from several species of native lamprey in Abernathy Creek, WA. The researchers would use backpack electrofishing units to capture the lamprey. Because the researchers are targeting lamprey, the electrofishing units would be operated at very low setting—settings that generally have very little effect on salmonids. Nonetheless, if the researchers do encounter any juvenile LCR coho, those fish would be dip-netted, quickly enumerated, and returned to the creek downstream of the electrofishing team without further handling. Though the listed fish are not the target of the research, they would nonetheless benefit from the information to be gained. The researchers are collecting data on an important indicator of habitat health, and they are doing it in an area that has been designated as an “intensively monitored watershed”—which means that managers will easily be able to use any information the researchers gather help recover listed salmonids elsewhere in the lower Columbia River. The researchers do not intend to kill any listed fish, but a small number some may die as an inadvertent result of the proposed activities.

23637

The Oregon Department of Fish and Wildlife (ODFW) is seeking a five-year permit to tag—with acoustic tags—adult MCR steelhead at Bonneville Dam on the Columbia River and monitor their subsequent migration patterns and routes. The fish would be taken and tagged as they pass through the Bonneville Dam adult fish facility. Captured adult steelhead would be anesthetized, held in an oxygenated, river-temperature tank, and implanted with an acoustic transmitter once they are fully anesthetized and deemed ready. Following their recovery from anesthesia, tagged adult steelhead would be released immediately upstream of the adult fish trap and allowed to proceed up the fish ladder to cross Bonneville Dam. The fish would then be tracked by acoustic receiver arrays in upstream reservoirs and dams and at a location near the confluence of the Columbia and John Day Rivers.

The research is intended to generate information about adult MCR steelhead migration and, in particular, it is intended to help managers address the question of why so many steelhead that originate in the John Day River tend to swim past that river and continue up the Columbia River when they return as adults. Currently, approximately 60% of the returning steelhead overshoot the John Day River when they return as adults. If managers can figure out why that is the case and develop measures to reduce that percentage (i.e., help the fish find their way back to their spawning grounds), it could potentially greatly increase their survival and, therefore, vastly improve spawning success and overall steelhead numbers in the John Day River. The researchers do not intend to kill any of the fish being tagged, but some may die as an inadvertent result of the capturing and tagging activities.

23629

The U.S. Geological Survey (USGS) is seeking a five-year permit to annually take juvenile and adult UWR Chinook salmon, and adult and juvenile SONCC coho in the Willamette (Coast Fork and Middle Fork), North and South Santiam, McKenzie and Upper Rogue rivers in OR. The purpose of this study is to evaluate contaminants, particularly mercury in reservoirs/lakes and the relationships between contaminants in sediment and biota, water quality, and fish tissue mercury concentrations. Researchers will capture fish with back pack and boat electrofishing, hook and line, gill nets, beach seines and minnow traps. Captured listed fish will be quickly handled and released. A subset of other fish will be anesthetized, tissue sampled, allowed to recover and released. This research will benefit listed species by providing information to assess factors that influence contaminant exposure and allow researchers to evaluate contaminant exposure, bioaccumulation, and effects in aquatic ecosystems. The researchers do not intend to kill any listed fish, but a small number some may die as an inadvertent result of the proposed activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: January 27, 2020.
Angela Somma,
Chief, Endangered Species Division, Office of Protected Resources, National Marine Fisheries Service.

[FR Doc. 2020-01684 Filed 1-29-20; 8:45 am]

BILLING CODE 3510-22-P